DEPARTMENT OF THE INTERIOR

Central Utah Project Completion Act

AGENCIES: Department of the Interior, Office of the Assistant Secretary—Water and Science.

ACTION: Notice of Availability of the Finding of No Significant Impact associated with the Environmental Assessment for the Block Notice 1A Francis Sub-Area Municipal and Industrial Water Conversion.

SUMMARY: On December 24, 2008, the Department of the Interior (Interior), signed a Finding of No Significant Impact (FONSI) which documents the selection of the Proposed Action as presented in the Final Environmental Assessment (EA) for the Block Notice 1A Francis Sub-Area Municipal and Industrial (M&I) Water Conversion. Interior has determined that implementing the Proposed Action described in the EA will not have a significant impact on the quality of the human environment and that an environmental impact statement is not required.

The proposed action consists of conversion of Central Utah Project (CUP) Bonneville Unit water, delivered under Development Block Notice No. 1A to the Francis Sub-Area, from irrigation to municipal and industrial use, and to expand the area to which the project water may be delivered (Expanded Francis Sub-Area). The conversion will be limited to 3,000 acre-feet of irrigation water that has been delivered to agricultural tracts that have been deemed irrigable under Bureau of Reclamation (Reclamation) law and policy. The irrigation water would be converted incrementally to M&I use over a period of up to 25 years. The Expanded Francis Sub-Area would be restricted to lands within the District boundary, in the upper Provo River drainage, upstream of Jordanelle Reservoir.

The proposed action is an administrative procedure that will allow the available Bonneville Unit water to be utilized for M&I purposes as the Francis Sub-Area becomes more residential. All water supply commitments to the existing agricultural irrigation will continue to be met.

FOR FURTHER INFORMATION CONTACT: Additional information pertaining to this action may be obtained by contacting Mr. Lee Baxter, Program Coordinator, Central Utah Project Completion Act Office, 302 East 1860 South, Provo, Utah 84606, by calling (801) 379-1174, or e-mail at lbaxter@uc.usbr.gov.

Dated: February 11, 2009.
Reed R. Murray,
Program Director, Central Utah Project Completion Act, Department of the Interior.

[FR Doc. E9-3357 Filed 2-13-09; 8:45 am]

BILLING CODE 4310-RK-P